FEDERAL COMMUNICATIONS COMMISSION

Federal Advisory Committee Act; Technological Advisory Council

AGENCY: Federal Communications Commission.

ACTION: Notice of public meeting.

SUMMARY: In accordance with the Federal Advisory Committee Act, this notice advises interested persons that the Federal Communications Commission's (FCC) Technological Advisory Council will hold a meeting on Thursday, August 17, 2023 in the Commission Meeting Room from 10:00 a.m. to 3 p.m. at the Federal Communications Commission, 45 L Street NE, Washington, DC 20554. Additionally, the meeting will be available to the public for viewing via the internet at http://www.fcc.gov/live.

DATES: Thursday August 17, 2023.

ADDRESSES: Federal Communications Commission, 45 L Street NE, Washington, DC 20554.

FOR FURTHER INFORMATION CONTACT: Martin Doczkat, Chief, Electromagnetic Compatibility Division 202-418-2435; martin.doczkat@fcc.gov.

SUPPLEMENTARY INFORMATION: At the August 17th meeting, the TAC will continue to consider and advise the Commission on topics such as 6G, artificial intelligence, advanced spectrum sharing technologies, and emerging wireless technologies. This agenda may be modified at the discretion of the TAC Chair and the Designated Federal Officer (DFO). Meetings are broadcast live with open captioning over the internet from the FCC Live web page at http://www.fcc.gov/live/. The public may submit written comments before the meeting to Martin Doczkat, the FCC's Designated Federal Officer for Technological Advisory Council by email: martin.doczkat@fcc.gov or U.S. Postal Service Mail (Martin Doczkat, Federal Communications Commission, 45 L Street NE, Washington, DC 20554). Open captioning will be provided for this event. Other reasonable accommodations for people with disabilities are available upon request. Requests for such accommodations should be submitted via email to fcc504@fcc.gov or by calling the Office of Engineering and Technology at 202-418-2470 (voice), (202) 418-1944 (fax). Such requests should include a detailed description of the accommodation needed. In addition, please include your contact information. Please allow at least five days advance notice; last minute requests will be accepted but may not be possible to fill.

Federal Communications Commission.
Ronald T. Repasi,
Chief, Office of Engineering and Technology.

[FR Doc. 2023-14226 Filed 7-5-23; 8:45 am]

BILLING CODE 6712-01-P